NUCLEAR REGULATORY COMMISSION

[Docket No. 52-026; NRC-2008-0252]

Vogtle Unit 4 Combined License

AGENCY: Nuclear Regulatory Commission.

ACTION: Determination of inspections, tests, analyses, and acceptance criteria completion.

SUMMARY: The U.S. Nuclear Regulatory Commission (NRC) staff has determined that the inspections, tests, and analyses (ITAAC) have been successfully completed, and that the specified acceptance criteria are met for ITAAC 2.1.03.11, for the Vogtle Unit 4 Combined License.

ADDRESSES: Please refer to Docket ID NRC-2008-0252 when contacting the NRC about the availability of information regarding this document. You may obtain publicly-available information related to this document using any of the following methods:

• Federal Rulemaking Web site: Go to http://www.regulations.gov and search for Docket ID NRC-2008-0252. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: David Jaffe, Office of New Reactors, U.S. Nuclear Regulatory Commission, Washington, DC 20555-0001; telephone: 301-415-1439, email: David.Jaffe@nrc.gov.

SUPPLEMENTARY INFORMATION:

Licensee Notification of Completion of ITAAC

On August 7, 2014, Southern Nuclear Operating Company, Inc., (the licensee) submitted an ITAAC closure notification (ICN) under § 52.99(c)(1) of Title 10 of the Code of Federal Regulations (10 CFR) informing the NRC that the licensee has successfully performed the required inspections, tests, and analyses for ITAAC 2.1.03.11, and that the specified acceptance criteria are met for Vogtle Unit 4 Combined License (ADAMS Accession No. ML14219A725). This ITAAC was approved as part of the issuance of the combined license, NPF-92, for this facility. This ITAAC is in Appendix C of the combined license under ADAMS Accession No ML14100A135.

NRC Staff Determination of Completion of ITAAC

The NRC staff has determined that the inspections, tests, and analyses have been successfully completed, and that the specified acceptance criteria are met for Vogtle Unit 4 Combined License, ITAAC 2.1.03.11. This notice fulfills the staff's obligations under 10 CFR 52.99(e)(1) to publish a notice in the Federal Register of the NRC staff's determination of the successful completion of inspections, tests and analyses.

The documentation of the NRC staff's determination is in the ITAAC Closure Verification Evaluation Form (VEF), dated September 25, 2014 (ADAMS Accession No. ML14268A455). The VEF is a form that represents the NRC staff's structured process for reviewing ICNs. The ICN presents a narrative description of how the ITAAC was completed, and the NRC's ICN review process involves a determination on whether, among other things, (1) the ICN provides sufficient information, including a summary of the methodology used to perform the ITAAC, to demonstrate that the inspections, tests, and analyses have been successfully completed; (2) the ICN provides sufficient information to demonstrate that the acceptance criteria are met; and (3) any inspections for the ITAAC have been completed and any ITAAC findings associated with the ITAAC have been closed.

The NRC staff's determination of the successful completion of this ITAAC is based on information available at this time and is subject to the licensee's ability to maintain the condition that the acceptance criteria are met. If the staff receives new information that suggests the staff's determination on this ITAAC is incorrect, then the staff will determine whether to reopen this ITAAC (including withdrawing the staff's determination on this ITAAC). The NRC staff's determination will be used to support a subsequent finding, pursuant to 10 CFR 52.103(g), at the end of construction that all acceptance criteria in the combined license are met. The ITAAC closure process is not finalized for this ITAAC until the NRC makes an affirmative finding under 10 CFR 52.103(g). Any future updates to the status of this ITAAC will be reflected on the NRC's Web site at http://www.nrc.gov/reactors/new-reactors/oversight/itaac.html.

Dated at Rockville, Maryland, this 6th day of October 2014.
For the Nuclear Regulatory Commission.
David Jaffe,
Senior Project Manager, Licensing Branch 4, Division of New Reactor Licensing. Office of New Reactors.

[FR Doc. 2014-24357 Filed 10-10-14; 8:45 am]

BILLING CODE 7590-01-P